DEPARTMENT OF AGRICULTURE

Food and Nutrition Service

7 CFR Parts 210, 215, 220, 235 and 245

RIN 0584-AD54

[FNS-2007-0023]

Applying for Free and Reduced Price Meals in the National School Lunch Program and School Breakfast Program and for Benefits in the Special Milk Program, and Technical Amendments

AGENCY: Food and Nutrition Service, USDA.

ACTION: Final rule; Correction.

SUMMARY: The Department of Agriculture, Food and Nutrition Service published a final rule in the Federal Register on October 28, 2011 (76 FR 66849), concerning changes to eligibility determinations for free and reduced price school meals to implement nondiscretionary provisions of the Child Nutrition and WIC Reauthorization Act of 2004. It also finalized the changes set forth in the interim rule published on November 13, 2007 (72 CFR 63785). This document corrects an amendment to provide additional amendatory language for text that was set out in 7 CFR 245.6(c)(3)(ii). All other information remained unchanged.

DATES: Effective Date: This rule is effective December 16, 2011.

FOR FURTHER INFORMATION CONTACT: Julie Brewer, Chief, Policy and Program Development Branch, Child Nutrition Division, Food and Nutrition Service (FNS) at (703) 305-2590.

SUPPLEMENTARY INFORMATION:

List of Subjects 7 CFR Part 245

Civil rights, Food assistance programs, Grant programs—education, Grant programs—health, Infants and children, Milk, Reporting and recordkeeping requirements, School breakfast and lunch programs.

Accordingly, the final rule published at 76 FR 66849 on October 28, 2011 is corrected as follows:

PART 245—DETERMINING ELIGIBILITY FOR FREE AND REDUCED PRICE MEALS AND FREE MILK IN SCHOOLS

1. The authority citation for Part 245 continues to read as follows:

Authority: 42 U.S.C. 1752, 1758, 1759a, 1772, 1773, and 1779.

2. In § 245.6, redesignate paragraph (c)(3)(ii) as (c)(3)(iii) and add a new paragraph (c)(3)(ii) to read as follows:

§ 245.6 Application, eligibility and certification of children for free and reduced price meals and free milk.

* * * * *

(c) * * *

(3) * * *

(ii) Households must attest to changes in information as specified in § 245.6(a)(9). In addition, benefits cannot be reduced by information received through other sources without the written consent of the household, except for information received through verification.

* * * * *

Dated: December 8, 2011.
Audrey Rowe,
Administrator, Food and Nutrition Service.

[FR Doc. 2011-32199 Filed 12-15-11; 8:45 am]

BILLING CODE 3410-30-P